DEPARTMENT OF THE INTERIOR

Fish and Wildlife Service

50 CFR Part 32

RIN 1018-AT40

2004-2005 Refuge-Specific Hunting and Sport Fishing Regulations; Corrections

AGENCY: Fish and Wildlife Service, Interior.

ACTION: Correcting amendments.

SUMMARY: The Fish and Wildlife Service published a document in the Federal Register on September 8, 2004 (69 FR 54350), revising 50 CFR part 32. This document related to the addition of refuges and wetland management districts to the list of areas open for hunting and/or sport fishing programs and increased the activities available at other refuges. We also developed pertinent refuge-specific regulations for those activities and amended certain regulations on other refuges that pertain to migratory game bird hunting, upland game hunting, big game hunting, and sport fishing for the 2004-2005 season. This document corrects the final regulations by revising 50 CFR part 32.

DATES: Effective August 31, 2004.

FOR FURTHER INFORMATION CONTACT: Leslie Marler, (703) 358-2397.

SUPPLEMENTARY INFORMATION: Most corrections are sequential numbering errors and are enumerated in the regulatory text section below. One correction removes the listing of Devils Lake Wetland Management District from the State of South Dakota (50 CFR 32.71).

List of Subjects in 50 CFR Part 32

Fishing, Hunting, Reporting and recordkeeping requirements, Wildlife, Wildlife refuges.

Accordingly, 50 CFR part 32 is corrected by making the following correcting amendments:

PART 32—HUNTING AND FISHING

1. The authority citation for part 32 continues to read as follows:

Authority: 5 U.S.C. 301; 16 U.S.C. 460k, 664, 668dd-668ee, and 715i.

§ 32.20 [Amended]

2. Amend § 32.20 Alabama by redesignating paragraphs D.5. and D.6. as paragraphs D.4. and D.5. respectively of Eufaula National Wildlife Refuge.

§ 32.23 [Amended]

3. Amend § 32.23 Arkansas by redesignating paragraphs C.20., C.21., and C.22. as paragraphs C.19., C.20., and C.21. respectively of Cache River National Wildlife Refuge.

§ 32.32 [Amended]

4. Amend § 32.32 Illinois by redesignating the second paragraph A.3. and paragraphs A.4., A.5., and A.6. as paragraphs A.4., A.5., A.6., and A.7. respectively of Cypress Creek National Wildlife Refuge.

§ 32.36 [Amended]

5. Amend § 32.36 Kentucky by redesignating paragraph A.8. as paragraph A.6. of Reelfoot National Wildlife Refuge.

§ 32.37 [Amended]

6. Amend § 32.37 Louisiana by redesignating paragraphs D.8. and D.9. as paragraphs D.7. and D.8. respectively of Lake Ophelia National Wildlife Refuge.

§ 32.43 [Amended]

7. Amend § 32.43 Mississippi by:

a. Redesignating paragraphs A.15., A.16., A.17., A.18., and A.19. as paragraphs A.14., A.15., A.16., A.17., and A.18. respectively of Hillside National Wildlife Refuge;

b. Redesignating paragraph C.24. as paragraph C.23. of Panther Swamp National Wildlife Refuge; and

c. Redesignating paragraphs A.11., A.12., A.13., and A.14. as paragraphs A.10., A.11., A.12, and A.13. of Yazoo National Wildlife Refuge.

§ 32.60 [Amended]

8. Amend § 32.60 South Carolina by redesignating paragraphs C.14., C.15., C.16., and C.17. as paragraphs C.13., C.14., C.15., and C.16. respectively of ACE Basin National Wildlife Refuge

§ 32.61 [Amended]

9. Amend § 32.61 South Dakota by removing the listing of Devils Lake Wetland Management District.

§ 32.63 [Amended]

10. Amend § 32.63 Texas by redesignating paragraphs A.8., A.9., A.10., A.11., A.12., A.13., and A.14. as paragraphs A.9., A.10., A.11., A.12., A.13., A.14., and A.15. respectively of McFaddin National Wildlife Refuge.

Dated: September 14, 2004.
Susan Wilkinson,
Alternate Fish and Wildlife Service Federal Register Liaison.

[FR Doc. 04-20995 Filed 9-16-04; 8:45 am]

BILLING CODE 4310-55-P